DEPARTMENT OF TRANSPORTATION

National Highway Traffic Safety Administration

[Docket No. NHTSA-2004-18640, Notice 1]

InterModal Technologies, Inc.; Receipt of Application for a Temporary Exemption From Federal Motor Vehicle Safety Standard No. 121

Pursuant to the procedures of 49 CFR part 555, InterModal Technologies, Inc. (“InterModal”) has applied for a Temporary Exemption from the requirements of S5.2.3.2 Antilock Malfunction Signal, and S5.2.3.3 Antilock Malfunction Indicator in Federal Motor Vehicle Safety Standard (“FMVSS”) No. 121, Air brake systems. The basis of the application is that the exemption would facilitate the development or field evaluation of a new motor vehicle safety feature providing a safety level at least equal to that of the standard, and that the applicant is otherwise unable to sell a vehicle whose overall level of safety is at least equal to that of a non-exempted vehicle.

We are publishing this notice of receipt of the application in accordance with the requirements of 49 U.S.C. 30113(b)(2). This notice makes no judgment on the merits of the application. Similarly, this notice does not address the merits of InterModal's statements that the MSQR-5000 is an antilock braking system. The merits may be addressed in comments and in the agency's resolution of this matter.

I. Background

InterModal is a manufacturer of semi-trailers incorporated in the State of Colorado. InterModal intends to manufacture semi-trailers equipped with a device, which it refers to as “MSQR-5000 pneumatic antilock braking system” (“MSQR-5000”).¹ The MSQR-5000 does not incorporate electrical circuits to transmit or receive electrical signals.

¹ For additional information on this peittion, please see Docket No. NHTSA-2004-18640 at http://dms.dot.gov/search/searchFormSimple.cfm.

The trailers equipped with MSQR-5000 would not comply with the requirements of S5.2.3.2 and S5.2.3.3 of FMVSS No. 121. Petitioner seeks a temporary exemption from the requirements of S5.2.3.2 and S5.2.3.3 because an exemption would facilitate the development or field evaluation of MSQR-5000, which petitioner contends offers a safety level at least equal to that of antilock brake systems (“ABS”) that comply with FMVSS No. 121. Further, petitioner contends that it is otherwise unable to sell a vehicle whose overall level of safety is at least equal to that of non-exempted vehicles. If the petition is granted, InterModal intends to produce not more than 2,500 trailers annually. For additional information on InterModal, please go to http://www.intermodaltechnologies.com.

II. Why InterModal Needs a Temporary Exemption

Petitioner contends that the MSQR-5000 device, installed on trailers manufactured by InterModal, operates as a conventional ABS. However, a trailer equipped with the MSQR-5000 does not comply with the requirements of S5.2.3.2 and S5.2.3.3 of FMVSS No. 121.

S5.2.3.2 requires that:

“* * * each trailer * * * manufactured on or after March 1, 2001, that is equipped with an antilock brake system shall be equipped with an electrical circuit that is capable of signaling a malfunction in the trailer's antilock brake system, and shall have the means for connection of this antilock brake system malfunction signal circuit to the towing vehicle * * *”

S5.2.3.3 requires that:

“In addition to the requirements of S5.2.3.2, each trailer * * * manufactured on or after March 1, 1998, and before March 1, 2009, shall be equipped with an external antilock malfunction indicator lamp * * *”

The trailers in question are incapable of meeting either requirement. Trailers equipped with only the MSQR-5000 would not be equipped with an electrical circuit capable of signaling a malfunction in the ABS. Further, these trailers would not be equipped with an external antilock malfunction indicator lamp.

InterModal has not specified the length for the requested exemption. However, under 49 CFR § 555.8(b) a temporary exemption from a standard granted on a basis other than substantial economic hardship terminates according to its terms not later than 2 years after the date of issuance. Accordingly, the agency assumes that InterModal is seeking a two-year exemption.

III. Why the Exemption Would Make It Easier To Develop or Perform Field Evaluation of a New Motor Vehicle Safety Feature; and Why the Applicant Is Otherwise Unable To Sell a Vehicle Whose Overall Level of Safety or Impact Protection Is at Least Equal to That of a Non-Exempted Vehicle

InterModal did not elaborate on how an exemption from the requirements of S5.2.3.2 and S5.2.3.3 would facilitate development or field evaluation of a new motor vehicle safety feature. The petition indicates that MSQR-5000 has already been developed by Air Brake Systems, Inc. Accordingly, development of a new motor vehicle safety feature is not at issue. While InterModal might be of the view that the grant of the petition would allow InterModal to conduct field evaluations of semi-trailers equipped with MSQR-5000, we note that the petition states that there are more than 7,000 MSQR-5000 units already in operation.

As previously discussed, an InterModal trailer equipped with MSQR-5000 would not comply with the requirements of S5.2.3.2 and S5.2.3.3 of FMVSS No. 121. Petitioner asserts that because MSQR-5000 does not use electricity, modifications to bring the vehicle into compliance with FMVSS No. 121 are impossible. Unless an exemption is granted, petitioners would not be able to sell semi-trailers equipped with the MSQR-5000.

IV. Why the Overall Level of Safety of Trailers Equipped With MSQR-5000 Is at Least Equal to That of Non-Exempted Semi-Trailers

Petitioner offers several reasons why it believes the overall level of safety of semi-trailers equipped with MSQR-5000 is at least equal to that of non-exempted semi-trailers.

First, InterModal argues that based on laboratory test data and field-test data, MSQR-5000 operates as a conventional ABS. Further, InterModal states that MSQR-5000 met or exceeded all the performance requirements in FMVSS No. 121. Petitioner also cites to several affidavits in support of its contention that trailers equipped with MSQR-5000 are at least as safe as trailers equipped with conventional ABS.²

² For laboratory test data, field-test data, and affidavits, see Docket No. NHTS-2004-18640.

Second, petitioner contends that MSQR-5000 is a “fully closed-loop” system as opposed to conventional electronic ABS that utilizes modulators to vent air during the braking cycle. According to petitioner, electronic ABS is subject to contamination and wear due to venting. Further, in its view, venting may extend the stopping distance. By contrast, MSQR-5000 modulates air internally and does not vent during braking.

Third, instead of an electronic malfunction indicator, semi-trailers equipped with MSQR-5000 feature a pneumatic malfunction indicator located in the cabin. Petitioner asserts that this design alerts the driver if the system malfunctions. In the event of a severe air pressure loss, an emergency brake chamber releases to engage the emergency brake, stopping the vehicle until repairs can be made.

Finally, petitioner asserts that MSQR-5000 is easier to install and maintain; causes less wear on the brake linings; has fewer parts that are susceptible to damage or wear; and has a better a safety record.³

³ In support of the last statement, petitioner indicates that in September 2000, 300,000 electronic ABS units were subject to a voluntary recall because of delays in brake application.

V. Why an Exemption Would Be in the Public Interest and Consistent With the Objectives of Motor Vehicle Safety

Petitioner has not set forth the reasons why granting this exemption would be in the public interest, as required by 49 CFR § 555.5(b)(7). However, petitioner presented several arguments of why it believes that a semi-trailer equipped with a MSQR-5000 device is superior to a semi-trailer equipped with conventional ABS system that complies with the requirements of FMVSS No. 121. Specifically, petitioner argues that MSQR-5000: (1) Is less expensive; (2) is less expensive to install; (3) is easier to operate; (4) has a better safety record than ABS products that comply with the requirements of FMVSS No. 121; (5) causes less wear on brake linings; (6) has fewer parts that are susceptible to damage or wear.

VI. How You May Comment on Inter Modal Application

We invite you to submit comments on the application described above. You may submit comments [identified by DOT Docket Number NHTSA-2004-18640] by any of the following methods:

• Web site: http://dms.dot.gov. Follow the instructions for submitting comments on the DOT electronic docket site by clicking on “Help and Information” or “Help/Info.”

• Fax: 1-202-493-2251.

• Mail: Docket Management Facility, U.S. Department of Transportation, 400 7th Street, SW., Nassif Building, Room PL-401, Washington, DC 20590.

• Hand Delivery: Room PL-401 on the plaza level of the Nassif Building, 400 7th Street, SW., Washington, DC, between 9 a.m. and 5 p.m., Monday through Friday, except Federal Holidays.

• Federal eRulemaking Portal: Go to http://www.regulations.gov. Follow the online instructions for submitting comments.

Instructions: All submissions must include the agency name and docket number or Regulatory Identification Number (RIN) for this rulemaking. Note that all comments received will be posted without change to http://dms.dot.gov, including any personal information provided.

Docket: For access to the docket in order to read background documents or comments received, go to http://dms.dot.gov at any time or to Room PL-401 on the plaza level of the Nassif Building, 400 Seventh Street, SW., Washington, DC, between 9 a.m. and 5 p.m., Monday through Friday, except Federal Holidays.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

We shall consider all comments received before the close of business on the comment closing date indicated below. To the extent possible, we shall also consider comments filed after the closing date. We shall publish a notice of final action on the application in the Federal Register pursuant to the authority indicated below.

Comment closing date: August 18, 2004.(49 U.S.C. 30113; delegations of authority at 49 CFR 1.50. and 501.8).

FOR FURTHER INFORMATION CONTACT: George Feygin in the Office of Chief Counsel, NCC-112, (Phone: 202-366-2992; Fax 202-366-3820; E-mail: George.Feygin@nhtsa.dot.gov).

Issued on: July 14, 2004.
Stephen R. Kratzke,
Associate Administrator for Rulemaking.

[FR Doc. 04-16383 Filed 7-16-04; 8:45 am]

BILLING CODE 4910-59-P